DEPARTMENT OF ENERGY

Federal Energy Regulatory Commission

[Project Nos. 13948-002; 13994-002]

Public Utility District No. 1 of Snohomish County; Notice of Applications Accepted for Filing, Soliciting Motions To Intervene and Protests, Ready for Environmental Analysis, and Soliciting Comments, Terms and Conditions, Recommendations, and Prescriptions

Take notice that the following hydroelectric application has been filed with the Commission and is available for public inspection.

a. Type of Application: New Major Licenses

b. Project Nos.: 13948-002 and 13994-002

c. Date filed: August 1, 2013

d. Applicant: Public Utility District No. 1 of Snohomish County (Snohomish PUD)

e. Name of Projects: Calligan Creek Hydroelectric Project and Hancock Creek Hydroelectric Project

f. Location: The Calligan Creek Hydroelectric Project would be located on Calligan Creek and the Hancock Creek Hydroelectric Project would be located on Hancock Creek. Both are located in King County, approximately 9 miles northeast of North Bend, Washington, and would not occupy any federal lands.

g. Filed Pursuant to: Federal Power Act 16 U.S.C. 791(a)-825(r)

h. Applicant Contact: Kim D. Moore, P.E., Assistant General Manager of Generation, Water and Corporate Services; Public Utility District No. 1 of Snohomish County, 2320 California Street, P.O. Box 1107, Everett, WA 98206-1107; (425) 783-8606; KDMoore@snopud.com.

i. FERC Contact: Kelly Wolcott; (202) 502-6480; kelly.wolcott@ferc.gov.

j. Deadline for filing motions to intervene and protests, comments, terms and conditions, recommendations, and prescriptions: 60 days from the issuance date of this notice; reply comments are due 105 days from the issuance date of this notice.

The Commission strongly encourages electronic filing. Please file motions to intervene and protests, comments, terms and conditions, recommendations, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket numbers P-13948-002 and/or P-13994-002.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis. Note: Based on review of the comments in response to this notice, the Commission may issue a single EA. Likewise, if a draft EA is issued and no substantive comments are received on it, the Commission may decide that a final EA is not necessary, in which case the draft EA will become the final EA.

l. The Calligan Creek Hydroelectric Project would consist of the following new facilities: (1) An approximately 127-foot-long diversion structure traversing Calligan Creek consisting of: (a) A 45-foot-long, 8-foot-high spillway with a 22-inch-long, 7-inch-deep crest slot, (b) a 40-foot-long, 14-foot-high left wingwall, and (c) a 42-foot-long, 14-foot-high right wingwall; (2) an approximately 85-foot-long rockfill ramp located downstream of and adjacent to the spillway; (3) a 1.04-acre-foot impoundment; (4) a 25-foot-wide, 14-foot-high, 53-foot-long intake equipped with a trashrack, a 220-square-foot angled fish screen with 0.125-inch-wide openings, and a sluice gate; (5) a 1.2-mile-long, approximately 41- to 45-inch-diameter buried penstock; (6) a powerhouse containing a single 6-megawatt (MW) two-jet horizontal-shaft Pelton turbine/generator; (7) a 13-foot-wide, approximately 135-foot-long rip-rap-lined tailrace channel with a 2-foot vertical drop and concrete apron near its confluence with Calligan Creek; (8) two access roads totaling approximately 700 feet long; (9) a 2.5-mile-long, 34.5-kilovolt (kV) buried transmission line connecting to the existing Black Creek Hydroelectric Project (P-6221) switching vault; and (10) appurtenant facilities. The project is estimated to generate an average of 20,700 megawatt-hours (MWh) annually.

The Hancock Creek Hydroelectric Project would consist of the following new facilities: (1) An approximately 130-foot-long diversion structure traversing Hancock Creek, consisting of: (a) A 45-foot-long, 6-foot-high spillway with a 56-inch-long, 7-inch-deep crest slot, (b) a 36-foot-long, 12-foot-high left wingwall, and (c) a 49-foot-long, 12-foot-high right wingwall; (2) an approximately 55-foot-long rockfill ramp located downstream of and adjacent to the spillway; (3) a 0.65-acre-foot impoundment; (4) a 25-foot-wide, 12-foot-high, 53-foot-long intake with a trashrack, a 220-square-foot angled fish screen with 0.125-inch-wide openings, and a sluice gate; (5) a 1.5-mile-long, approximately 39- to 44-inch-diameter buried penstock; (6) a powerhouse containing a single 6-MW two-jet horizontal-shaft Pelton turbine/generator; (7) a 13-foot-wide, approximately 150-foot-long rip-rap-lined tailrace channel with a 2-foot vertical drop and concrete apron near its confluence with Hancock Creek; (8) two existing logging roads totaling 1,210 feet long; (9) three new access roads totaling 1,220 feet long; (10) a 0.3-mile-long, 34.5-kV buried transmission line connecting to the existing Black Creek Hydroelectric Project (P-6221) switching vault; and (11) appurtenant facilities. The project is estimated to generate an average of 22,100 MWh annually.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR4.34(b) and 385.2010.

o. A license applicant must file no later than 60 days following the date of issuance of this notice: (1) A copy of the water quality certification; (2) a copy of the request for certification, including proof of the date on which the certifying agency received the request; or (3) evidence of waiver of water quality certification.

Dated: April 10, 2014.
Kimberly D. Bose,
Secretary.

[FR Doc. 2014-08666 Filed 4-16-14; 8:45 am]

BILLING CODE 6717-01-P